FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

Sony Supply Chain Solutions (America), Inc., 2201 East Carson Street, MD:71, Long Beach, CA 90810. Officers: Yoshio Robert Kooda, Jr., Director (Qualifying Individual). Rintaro Miyoshi, Director.

C & S Shipping, LLC, 4360 Casa Grande Cr., Ste. 284, Cypress, CA 90630. Officer: Cristina De La Torre, Member (Qualifying Individual).

Agencia Internacional, 599 Central Street, Lowell, MA 01852, Officer: Manuel L. Melo, Owner (Qualifying Individual).

Western Shipping America, Inc., 1245-A East Watson Center Road, Carson, CA 90745, Officers: Craig Nakatsumi, President (Qualifying Individual).

Cargo Station dba Accord Logistics USA, 2726 Fruitland Ave., Vernon, CA 90058. Officer: Hae Yun Kim, President (Qualifying Individual).

Sea & Air International, Inc., 356 E. 74 Street, Suite #2, New York, NY 110021. Officers: Yaniv Risman, Vice President (Qualifying Individual). Nir Shuminer, President.

World Transport Agency Limited, Thameside House Kingsway Business Park, Oldfield Road, Hampton Middlesex, TW122HD United Kingdom. Officer: Gerard William Lawler, Managing Director (Qualifying Individual).

Ultimate Lines, Inc., 1026 Hickory Street, 3rd Floor, Kansas City, MO 64101. Officers: Angela Rae Nakata, President (Qualifying Individual). Thom Ruffolo, Vice President.

Dynamic L.A., A California Corporation, 11755 Sheldon Street, Sun Valley, CA 91352. Officer: Mark Hezroni, President (Qualifying Individual).

Non-Vessel-Operating Common Carrier and Ocean Freight Forwarder Transportation Intermediary Applicant:

Summit of Washington LLC, 8033 S. 224th Street, Bldg. F, Renton, WA 98032. Officers: Chang K. Choe, CEO (Qualifying Individual). Soon Mon Kim, President.

Ocean Freight Forwarder—Ocean Transportation Intermediary Applicants:

JK Moving & Storage Inc., 44112 Mercure Circle, Sterling, VA 20166. Officer: Charles S. Kuhn, President (Qualifying Individual).

Nick's International Shipping, Inc., 1841 Carter Avenue, Bronx, NY 10457. Officer: Olimpia Sandoval, President (Qualifying Individual).

Cargo Control, Inc., 265 E. Merrick Road, Ste. 102, Valley Stream, NY 11580. Officers: Anthony Paolino, Vice President (Qualifying Individual). Thomas Greco, President.

Dated: July 21, 2006.
Bryant L. VanBrakle,
Secretary.

[FR Doc. E6-11957 Filed 7-25-06; 8:45 am]

BILLING CODE 6730-01-P